DEPARTMENT OF ENERGY

Federal Energy Regulatory Commission

[Docket No. OR05-2-000]

State of Alaska v. BP Pipelines (Alaska) Inc., Exxon Mobil Pipeline Co; Conoco Phillips Transportation Alaska, Inc; Phillip Transportation Alaska; Unocal Pipeline Co., Koch Alaska Pipeline Co.; Notice of Complaint

December 17, 2004.

Take notice that on December 15, 2004, the State of Alaska (Alaska) tendered for filing a Complaint against Exxon Mobil Pipeline Co; Conoco Phillips Transportation Alaska, Inc; Phillip Transportation Alaska; Unocal Pipeline Co.; and Koch Alaska Pipeline Co. (collectively, TAPS Carriers).

Alaska files this complaint pursuant to section III-11 of the Interstate Settlement Agreement and alleges that the TAPS Carriers' 2003 and 2004 interstate tariffs violate the Interstate Commerce Act, are inconsistent with the terms of the Interstate Settlement Agreement, and are otherwise unlawful. Specifically, Alaska seeks relief from the inclusion of: (1) Non-jurisdictional intrastate costs; and (2) dismantling and removal costs that do not constitute operating expenses in the TAPS Carriers' 2003 and 2004 interstate tariffs under the Interstate Settlement Agreement.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 6, 2005.

Magalie R. Salas,
Secretary.

[FR Doc. E4-3808 Filed 12-23-04; 8:45 am]

BILLING CODE 6717-01-P